DEPARTMENT OF COMMERCE

National Oceanic and Atmospheric Administration

[RTID 0648-XE144]

Fisheries of the Exclusive Economic Zone Off Alaska; Bering Sea and Aleutian Islands Management Area; Cost Recovery Fee Notice for the Pacific Cod Trawl Cooperative Program

AGENCY: National Marine Fisheries Service (NMFS), National Oceanic and Atmospheric Administration (NOAA), Commerce.

ACTION: Notice of standard prices fee percentage.

SUMMARY: NMFS publishes the fee percentage for cost recovery for the Pacific Cod Trawl Cooperative (PCTC) Program. The fee percentage for 2024 is 1.92 percent. This notice is intended to provide the 2024 fee percentage to calculate the required payment for cost recovery fees due by August 31, 2024.

DATES: The fee percentage is valid on August 1, 2024.

FOR FURTHER INFORMATION CONTACT: Charmaine Weeks, Fee Coordinator, 907-586-7231.

SUPPLEMENTARY INFORMATION:

Background

Section 304(d) of the Magnuson-Stevens Fishery Conservation and Management Act (Magnuson-Stevens Act) authorizes and requires that NMFS collect cost recovery fees for limited access privilege programs. Cost recovery fees include NMFS' actual costs directly related to its management, data collection, and enforcement of the programs. Section 304(d) of the Magnuson-Stevens Act mandates that cost recovery fees not exceed 3 percent of the annual ex-vessel value of fish harvested under any program subject to a cost recovery fee and that the fee be collected either at the time of landing, filing of a landing report, or sale of such fish during a fishing season or in the last quarter of the calendar year in which the fish is harvested.

NMFS manages the PCTC Program as a limited access privilege program. On August 8, 2023, NMFS published a final rule to implement this Program (88 FR 53704). The PCTC Program allocates total allowable catch (TAC) of Pacific cod to trawl catcher vessels and processors in the Bering Sea and Aleutian Islands area (BSAI). Participants in the PCTC Program must form a cooperative and associate with a processor. The PCTC Program includes a process for calculating and administering cost recovery fees under 50 CFR 679.135. The annual PCTC Program cost recovery process builds on other existing cost recovery requirements implemented under other programs. The fee liability is based on the ex-vessel value of fish harvested in the PCTC Program. Each year, the Regional Administrator publishes a notice announcing the fee percentage in the Federal Register and sends invoices to cooperatives before July 31.

Each PCTC Program cooperative is responsible for payment of the cost recovery fee assessed on Pacific cod landed under the PCTC Program. Each cooperative must submit any cost recovery fee liability payment(s) no later than August 31. The total dollar amount of the fee due is determined by multiplying the NMFS published fee percentage by the annual ex-vessel value of Cooperative Quota (CQ) landings under the Program, as described in this notice.

Failure to pay cost recovery fee liabilities by August 31st will result in NMFS disapproval of a cooperative's application to transfer CQ or issue a CQ permit the following year until full payment of the fee liability is received by NMFS. NMFS will not issue a CQ permit until NMFS receives a complete application for CQ issuance and confirmation of the full payment of any cost recovery fee liability.

Standard Price

For purposes of calculating cost recovery fees, NMFS uses a standard ex-vessel price (standard price) for Pacific Cod. A standard price is determined using information on landings purchased (volume) and ex-vessel value paid (value). NMFS annually receives information used to calculate the Pacific cod standard price in the existing Bering Sea and Aleutian Island (BSAI) Pacific cod Ex-vessel Volume and Value Report, which is submitted in early November of each year. NMFS uses this existing data source to calculate standard prices and thus determine the annual PCTC Program fishery value, which, along with the direct program costs, is used to calculate the annual PCTC Program cost recovery fee percentage. The standard prices are described in U.S. dollars per pound for landings made during the previous year. NMFS published the standard price of 0.42 cents per pound for Pacific cod for 2024 in the Federal Register on November 24, 2023 (88 FR 82336).

Each landing made under the PCTC Program is multiplied by the standard price to arrive at an ex-vessel value for each landing. These values are summed together to arrive at the ex-vessel value of Pacific Cod (fishery value).

Fee Percentage

Annually, NMFS calculates the applicable fee percentage according to the factors and methods described at § 679.135 for the PCTC Program. NMFS used the standard price of 0.42 cents to calculate the fee percentage applied to landings made in 2024. NMFS determined the fee percentage that applies to landings made in the A and B seasons, which extend from January 20 to June 10, 2024, by dividing the total costs directly related to the management, data collection, and enforcement of the program (direct program costs) by the value of the catch subject to the cost recovery fee.

NMFS captures direct PCTC program costs through an established accounting system that allows NMFS staff to track labor, travel, contracts, rent, and procurement costs. For 2024, the direct program costs for the PCTC Program were tracked from October 1, 2023 to June 30, 2024. NMFS began tracking PCTC Program management costs after the effective date of the final rule implementing the PCTC Program (88 FR 53704, August 8, 2023). NMFS will publish an annual report on the NMFS Alaska Region website in the first quarter of 2025 that summarizes direct program costs for the PCTC Program.

Using the fee percentage formula described generally above, the estimated percentage of direct program costs to fishery value for the 2024 calendar year is 1.92 percent for the PCTC Program. For 2024, NMFS applied the fee percentage to each PCTC landing that was debited from a CQ allocation between January 20 and June 10 to calculate the fee liability for each cooperative. A PCTC cooperative's 2024 fee payments must be submitted to NMFS on or before August 31, 2024. Payment must be made in accordance with the payment methods set forth in § 679.135(a)(3).

Authority: 16 U.S.C. 1801 et seq.

Dated: July 26, 2024.
Lindsay Fullenkamp,
Acting Director, Office of Sustainable Fisheries, National Marine Fisheries Service.

[FR Doc. 2024-16902 Filed 7-31-24; 8:45 am]

BILLING CODE 3510-22-P